DEPARTMENT OF THE INTERIOR

National Park Service

[N6820; NPS-WASO-NAGPRA-NPS0041641; PPWOCRADN0-PCU00RP14.R50000]

Notice of Intended Disposition: U.S. Department of Agriculture, Forest Service, Dakota Prairie Grasslands, Bismarck, ND

AGENCY: National Park Service, Interior.

ACTION: Notice.

SUMMARY: In accordance with the Native American Graves Protection and Repatriation Act (NAGPRA), the U.S. Department of Agriculture, Forest Service, Dakota Prairie Grasslands intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after January 20, 2026. If no claim for disposition is received by December 21, 2026, the human remains or cultural items in this notice will become unclaimed human remains or cultural items.

ADDRESSES: Send written claims for disposition of the human remains or cultural items in this notice to Bethany A. Ihle, Dakota Prairie Grasslands, 2000 Miriam Circle, Bismarck, ND 58501, email bethany.ihle@usda.gov.

SUPPLEMENTARY INFORMATION: This notice is published as part of the National Park Service's administrative responsibilities under NAGPRA. The determinations in this notice are the sole responsibility of the Dakota Prairie National Grasslands, and additional information on the human remains or cultural items in this notice, including the results of consultation, can be found in the related records. The National Park Service is not responsible for the identifications in this notice.

Abstract of Information Available

Based on the information available, human remains representing two individuals have been reasonably identified from two different locations. One associated funerary object has been identified.

On July 31, 2022, a single cranial bone was discovered on a sand bar in the Little Missouri River in Billings County, North Dakota. This was exposed by a significant flooding event and reported to the Billings County Sheriff's Department, who transferred custody to the Billings County Medical Examiner on August 3, 2022. The medical examiner determined the remains to be the parietal bone of an adult human predating the present time. No associated funerary objects were identified.

On October 19, 2024, a human cranium was discovered along a deep, heavily eroded ravine in McKenzie County, North Dakota. This was reported to the McKenzie County Sheriff's Department and was originally thought to be a modern forensics case. The Federal Bureau of Investigation (FBI) took custody of the remains and determined that the cranium belonged to a Native American, likely female, that predates the present time and is not a forensic matter. The one associated funerary object is a bone awl.

Determinations

The Dakota Prairie Grasslands has determined that:

• The human remains described in this notice represent the physical remains of two individuals of Native American ancestry.

• The one object described in this notice is reasonably believed to have been placed intentionally with or near individual human remains at the time of death or later as part of the death rite or ceremony.

• The Assiniboine and Sioux Tribes of the Fort Peck Indian Reservation, Montana and the Three Affiliated Tribes of the Fort Berthold Reservation, North Dakota have priority for disposition of the human remains or cultural item described in this notice.

Claims for Disposition

Written claims for disposition of the human remains or cultural items in this notice must be sent to the appropriate official identified in this notice under ADDRESSES. If no claim for disposition is received by December 21, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows that they have priority for disposition.

Disposition of the human remains or cultural items in this notice may occur on or after January 20, 2026. If competing claims for disposition are received, the Dakota Prairie Grasslands must determine the most appropriate claimant prior to disposition. Claims for joint disposition of the human remains or cultural items are considered a single claim and not competing claims. The Dakota Prairie Grasslands is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 11, 2025.
Melanie O'Brien,
Manager, National NAGPRA Program.

[FR Doc. 2025-23387 Filed 12-18-25; 8:45 am]

BILLING CODE 4312-52-P